COMMITTEE FOR PURCHASE FROM PEOPLE WHO ARE BLIND OR SEVERELY DISABLED

Procurement List Proposed Additions

AGENCY: Committee for Purchase From People Who Are Blind or Severely Disabled.

ACTION: Proposed additions to the procurement list.

SUMMARY: The Committee is proposing to add a product and services to the Procurement List that will be furnished by nonprofit agencies employing persons who are blind or have other severe disabilities.

DATES: Comments must be received on or before: August 12, 2013.

ADDRESSES: Committee for Purchase From People Who Are Blind or Severely Disabled, 1401 S. Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

NSN: MR 546—Sponge, All-Purpose, Nylon Mesh, Large.

NPA: New York City Industries for the Blind, Inc., Brooklyn, NY.

Contracting Activity: Military Resale-Defense Commissary Agency (DeCA), Fort Lee, VA.

COVERAGE: C-List for the requirements of military commissaries and exchanges as aggregated by the Defense Commissary Agency.

Services

Service Type/Location: Janitorial Service, Customs and Border Protection, Brown Field Air Unit, 7685 Pogo Row, San Diego, CA.

NPA: Job Options, Inc., San Diego, CA.

Contracting Activity: U.S. CUSTOMS AND BORDER PROTECTION, AVIATION, MARITIME & BORDER TECHNOLOGIES CONTRACTING DIVISION, WASHINGTON, DC

Service Type/Location: Chemical Latrine Service, NAVFAC-EFA-NW, 1101 Tautog Circle, Silverdale, WA.

NPA: Skookum Educational Programs, Bremerton, WA.

Contracting Activity: DEPT OF THE NAVY, NAVFAC NORTHWEST, SILVERDALE, WA.

Barry S. Lineback,
Director, Business Operations.

[FR Doc. 2013-16721 Filed 7-11-13; 8:45 am]

BILLING CODE 6353-01-P